DEPARTMENT OF COMMERCE

Foreign-Trade Zones Board

[S-151-2015]

Foreign-Trade Zone 119—Minneapolis/St. Paul, Minnesota; Application for Subzone; CNH Industrial America LLC; Benson, Minnesota

An application has been submitted to the Foreign-Trade Zones (FTZ) Board by the Greater Metropolitan Area Foreign Trade Zone Commission, grantee of FTZ 119, requesting subzone status for the facilities of CNH Industrial America LLC in Benson, Minnesota. The application was submitted pursuant to the provisions of the Foreign-Trade Zones Act, as amended (19 U.S.C. 81a-81u), and the regulations of the FTZ Board (15 CFR part 400). It was formally docketed on November 9, 2015.

The proposed subzone would consist of the following sites: Site 1 (25.26 acres)—Benson Plant, 260 Highway 12 SE., Benson; Site 2 (4.01 acres)—Benson Plant Warehouse, 140 30th Avenue SE., Benson; and, Site 3 (1.47 acres)—Benson Northstar, 2200 Tatges Avenue, Benson. The proposed subzone would be subject to the existing activation limit of FTZ 119. A notification of proposed production activity has been submitted and is being processed under 15 CFR 400.37 (Doc. B-61-2015).

In accordance with the FTZ Board's regulations, Camille Evans of the FTZ Staff is designated examiner to review the application and make recommendations to the Executive Secretary.

Public comment is invited from interested parties. Submissions shall be addressed to the FTZ Board's Executive Secretary at the address below. The closing period for their receipt is December 28, 2015. Rebuttal comments in response to material submitted during the foregoing period may be submitted during the subsequent 15-day period to January 11, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: November 9, 2015.
Elizabeth Whiteman,
Acting Executive Secretary.

[FR Doc. 2015-29237 Filed 11-13-15; 8:45 am]

BILLING CODE 3510-DS-P